DEPARTMENT OF ENERGY

Federal Energy Regulatory Commission

Sunshine Act Meeting

November 14, 2000.

The following notice of meeting is published pursuant to section 3(A) of the Government in the Sunshine Act (Pub. L. No. 94-409), 5 U.S.C 552B:

AGENCY HOLDING MEETING: Federal Energy Regulatory Commission.

DATE AND TIME: November 21, 2000, 10 a.m.

PLACE: Room 2C, 888 First Street, NE., Washington, DC 20426.

STATUS: Open.

MATTERS TO BE CONSIDERED: Agenda

NOTE: Items listed on the agenda may be deleted without further notice.

CONTACT PERSON FOR MORE INFORMATION: David P. Boergers, Secretary, Telephone (202) 208-0400, For a recording listing items stricken from or added to the meeting, call (202) 208-1627.

This is a list of matters to be considered by the Commission. It does not include a listing of all papers relevant to the items on the agenda; however, all public documents may be examined in the reference and information center.

754th—Meeting November 21, 2000, Regular Meeting (10:00 a.m.)

Consent Agenda—Markets, Tariffs and Rates—Electric

CAE-1.

Docket# ER00-3771, 000, Firstenergy Operating Companies

CAE-2.

Docket# ER00-3740, 000, New York Independent System Operator, Inc.

CAE-3.

Docket# ER00-3785, 000, Virginia Electric & Power Company

CAE-4.

Omitted

CAE-5.

Docket# ER01-62, 000, Entergy Services, Inc.

Other#s ER00-2621, 000, Entergy Services, Inc.

ER00-3671, 000, Entergy Services, Inc.

CAE-6.

Docket# ER01-66, 000, Pacific Gas and Electric Company

CAE-7.

Docket# ER01-80, 000, California Power Exchange Corporation

Other#s ER01-81, 000, California Power Exchange Corporation

CAE-8.

Omitted

CAE-9.

Docket# ER01-180, 000, New York Independent System Operator, Inc.

CAE-10.

Docket# ER01-102, 000, Cinergy Services, Inc.

CAE-11.

Docket# ER00-3577, 000, New England Power Pool

CAE-12.

Docket# ER00-3691, 000, Sithe Edgar LLC, Sithe New Boston LLC, Sithe Framingham LLC, Sithe West Medway LLC, Sithe Wyman LLC, Sithe Mystic LLC, AE-Energy, L.P., Power City Partners, L.P., Seneca Power Partners, L.P., Sterling Power Partners, L.P., Sithe Power Marketing, L.P. and Sithe Power Marketing, Inc.

CAE-13.

Docket# ER01-53, 000, Confederated Tribes of the Warm Springs Reservation of Oregon, a Federally Recognized Indian Tribe, and Warm Springs Power Enterprises, a Chartered Enterprise of the Confederated Tribes of the Warm Springs Reservation of Oregon

CAE-14.

Docket# ER00-188, 001, PSI Energy, Inc.

CAE-15.

Docket# ER99-3531, 000, Southern Company Services, Inc.

Other#s ER99-3531, 001, Southern Company, Services, Inc.

ER99-4384, 000, Southern Company, Services, Inc.

ER99-4384, 001, Southern Company, Services, Inc.

CAE-16.

Docket# EC00-63, 000, Sierra Pacific Power Company, Nevada Power Company and Portland General Electric Company

Other#s ER00-1801, 000, Sierra Pacific Power Company, Nevada Power Company and Portland General Electric Company

CAE-17.

Docket# EC00-136, 000, Madison Gas & Electric Company, Wisconsin Public Service Corporation and American Transmission Company, LLC

CAE-18.

Docket# EC00-80, 000 Portland General Electric Company

CAE-19.

Docket# EC00-118, 000, Arizona Public Service Company, Pinnacle West Capital Corporation and Pinnacle West Energy Corporation

Other#s EC00-118, 001, Arizona Public Service Company, Pinnacle West Capital Corporation and Pinnacle West Energy Corporation

CAE-20.

Docket# EC00-106, 000, Entergy Power Marketing Corporation and Koch Energy Trading, Inc.

CAE-21.

Docket# ER90-54, 002, People's Electric Cooperative

Other#s ER91-221, 001, Peoples Electric Cooperative

EL91-20, 003, Peoples Electric Cooperative

CAE-22.

Docket# EC99-81, 002, Dominion Resources, Inc. and Consolidated Natural Gas Company

Other#s MG00-6, 001, Consolidated Natural Gas Company

CAE-23.

Docket# EL00-118, 000, Public Service Company of New Mexico

CAE-24.

Docket# EL00-114, 000, Dynegy Power Marketing, Inc. v. Ameren Services Company

CAE-25.

Docket# EL01-4, 000, Western Farmers Electric Cooperative

CAE-26.

Docket# ER01-94, 000, New York Independent System Operator, Inc.

Consent Agenda—Markets, Tariffs and Rates—Gas

CAG-1.

Docket# RP01-63, 000, Columbia Gas Transmission Corporation

CAG-2.

Docket# RP96-383, 012, Dominion Transmission, Inc.

CAG-3.

Docket# RP96-383, 013, Dominion Transmission, Inc.

CAG-4.

Docket# RP01-4, 001, Midcoast Interstate Transmission, Inc.

CAG-5.

Docket# RP01-5, 001, Mid Louisiana Gas Company

CAG-6.

Docket# RP98-54, 032, Colorado Interstate Gas Company

CAG-7.

Docket# RP01-64, 000, Southern Natural Gas Company

CAG-8.

Docket# RP00-374, 000, Columbia Gas Transmission Corporation

CAG-9.

Docket# RP95-364, 010, Williston Basin Interstate Pipeline Company

Other#s RP95-364, 000, Williston Basin Interstate Pipeline Company

RP95-364, 005, Williston Basin Interstate Pipeline Company

RP95-364, 007, Williston Basin Interstate Pipeline Company

RP95-364, 009, Williston Basin Interstate Pipeline Company

CAG-10.

Docket# GP91-8, 010, Jack J. Grynberg, Individually and as General Partner for the Greater Green River Basin Drilling Program: 72-73 v. Rocky Mountain Natural Gas Company, a Division of K N Energy Inc.

Other#s GP91-10, 010, Rocky Mountain Natural Gas Company, a Division of K N Energy Inc. v. Jack J. Grynberg, Individually and as General Partner for the greater Green River Basin Drilling Program: 72-73

CAG-11.

Docket# GP97-1, 003, Rocky Mountain Natural Gas Company

CAG-12.

Docket# TM00-1-25, 004, Mississippi River Transmission Corporation

CAG-13.

Docket# RP00-162, 006, Panhandle Eastern Pipe Line Company

Other#s RP00-162, 005, Panhandle Eastern Pipe Line Company

CAG-14.

Docket# RP00-354, 002, Columbia Gas Transmission Corporation

Other#s RP00-354, 001, Columbia Gas Transmission Corporation

CAG-15.

Docket# RM96-1, 015, Standards for Business Practices of Interstate Natural Gas Pipelines

CAG-16.

Docket# PR00-15, 000, Overland Trail Transmission Company

Other#s PR00-15, 001, Overland Trail Transmission Company

CAG-17.

Docket# GT01-3, 000, El Paso Natural Gas Company

CAG-18.

Docket# RP96-320, 033, Koch Gateway Pipeline Company

CAG-19.

Docket# RP01-76, 000, Northern Natural Gas Company

CAG-20.

Docket# RP00-257, 004, Ozark Gas Transmission, L.L.C.

CAG-21.

Docket# RP99-518, 018 PG&E Gas Transmission, Northwest Corporation

CAG-22.

Docket# RP01-73, 000, Southwest Gas Transmission Company

CAG-23.

Docket# RP01-56, 000, Transwestern Pipeline Company

CAG-24.

Docket# RP01-72, 000, Wyoming Interstate Company, Ltd.

Consent Agenda—Miscellaneous

CAM-1.

Docket# RM98-1, 001, Regulations Governing Off-the-Record Communications

Consent Agenda—Energy Projects—Hydro

CAH-1.

Omitted

CAH-2.

Docket# DI00-1, 001, City and County of San Francisco

CAH-3.

Docket# UL96-1, 003, Blackstone Mill Depot Street Trust

CAH-4.

Docket# P-2030, 031, Portland General Electric Company

Other#s P-2030, 032, Portland General Electric Company

P-11832, 000, Confederated Tribes of the Warm Springs Reservation of Oregon, a Federally Recognized Indian Tribe, and Warm Springs Power Enterprises, a Chartered Enterprise of the Confederated Tribes of the Warm Springs Reservation of Oregon

Consent Agenda—Energy Projects—Certificates

CAC-1.

Docket# CP00-140, 000, Black Marlin Pipeline Company, WBI Offshore Pipeline, Inc. and MCNIC Black Marlin Offshore Company

CAC-2.

Docket# CP00-456, 000, Montana Power Company and 3698157 Canada Ltd.

CAC-3.

Docket# CP00-457, 000, Canadian-Montana Pipeline Corporation and 3698157 Canada Ltd.

CAC-4.

Docket# CP00-40, 000, Florida Gas Transmission Company

Other#s CP00-39, 000, Koch Gateway Pipeline Company

CP00-40, 001, Florida Gas Transmission Company

CP00-40, 002, Florida Gas Transmission Company

CAC-5.

Docket# CP97-119, 001, Dauphin Island Gathering System

Other#s CP97-300, 001, Dauphin Island Gathering Partners

CP97-301, 001, Dauphin Island Gathering Partners

CP97-302, 001, Dauphin Island Gathering Partners

RP97-371, 001, Dauphin Island Gathering Partners

CAC-6.

Docket# CP00-421, 001, Distrigas LLC

Energy Projects—Hydro Agenda

H-1.

Reserved

Energy Projects—Certificates Agenda

C-1.

Reserved

Markets, Tariffs and Rates—Electric Agenda

E-1.

Reserved

Markets, Tariffs and Rates—Gas Agenda

G-1.

Reserved

David P. Boergers,
Secretary.

[FR Doc. 00-29534 Filed 11-14-00; 4:12 pm]

BILLING CODE 6717-01-M